DEPARTMENT OF TRANSPORTATION

Federal Aviation Administration

[Docket No. FAA-2021-0168]

Agency Information Collection Activities: Requests for Comments; Clearance of a Renewed Approval of Information Collection: Agricultural Aircraft Operations (Formerly “Agricultural Aircraft Operator Certificate Application”)

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on March 1, 2021. The collection involves the submission of FAA Form 8710-3 for the certification process of agricultural aircraft operators, and other reporting and recordkeeping activities required of agricultural aircraft operators. The information to be collected is necessary to evaluate the applicants' qualifications for certification. This collection also involves plans for operations over congested areas and recordkeeping requirements for agricultural aircraft operators. In addition, the FAA is changing the name of this collection to more accurately reflect its scope.

DATES: Written comments should be submitted by August 18, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Raymond Plessinger by email at: raymond.plessinger@faa.gov; phone: 717-443-7296.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0049.

Title: Agricultural Aircraft Operations.

Form Numbers: FAA Form 8710-3.

Type of Review: Renewal.

Background: The Federal Register Notice with a 60-day comment period soliciting comments on the following collection of information was published on March 1, 2021 (86 FR 12074). This collection involves the application for issuance or amendment of a 14 CFR part 137 Agricultural Aircraft Operator Certificate. Application for an original certificate or amendment of a certificate issued under 14 CFR part 137 is made on a form, and in a manner prescribed by the Administrator. The FAA form 8710-3 may be obtained from an FAA Flight Standards District Office, or online at https://www.faa.gov/forms/index.cfm/go/document.information/documentID/1020386. The completed application is sent to the district office that has jurisdiction over the area in which the applicant's home base of operation is located.

The information collected includes: Type of application, operator's name/DBA, telephone number, mailing address, physical address of the principal base of operations, chief pilot/designee name, airman certificate grade and number, and aircraft make/model and registration numbers to be used.

This information collection also includes safety mitigation plans; plans for operations over congested areas; and recordkeeping requirements.

Respondents: There are 1,763 active agricultural aircraft operators. Approximately 50 operators are certificated annually, and approximately 50 certificates are surrendered or revoked.

Frequency: New applications when needed; current 14 CFR part 137 certificate do not expire, but may need to be amended on occasion.

Estimated Average Burden per Response: The FAA anticipates 100 applications for new certificates, at 0.5 hours each; 100 applications for amendment, at 0.5 hours each; 100 petitions for exemption, at 0.5 hours each; and 350 submissions of plans for operations over congested areas, at 0.5 hours each. The total reporting burden is thus 650 responses and 325 hours.

All operators certificated under part 137 are required to maintain certain records for a minimum of 12 months. The FAA estimates this recordkeeping burden at 4.5 hours per operator. Assuming a universe of 1,763 operators, the annual recordkeeping burden is 7,934 hours.

Estimated Total Annual Burden: 325 reporting hours + 7,934 recordkeeping hours = 8,259 total hours.

Issued in Washington, DC, on July 14, 2021.
Dwayne C. Morris,
Project Manager, Flight Standards Service, General Aviation and Commercial Division.

[FR Doc. 2021-15235 Filed 7-16-21; 8:45 am]

BILLING CODE 4910-13-P